NUCLEAR REGULATORY COMMISSION

[Docket No. NRC-2012-0198]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on September 24, 2012 (77 FR 58872).

1. Type of submission, new, revision, or extension: Extension.

2. The title of the information collection: 10 CFR part 40, Domestic Licensing of Source Material.

3. Current OMB approval number: 3150-0020.

4. The form number if applicable: N/A.

5. How often the collection is required: On occasion. Reports required under part 40 of Title 10 of the Code of Federal Regulations (10 CFR) are collected and evaluated on a continuing basis as events occur. There is a one-time submittal of information to receive a license. Renewal applications need to be submitted every 5 to 10 years. Information in previous applications may be referenced without being resubmitted. In addition, recordkeeping must be performed on an on-going basis.

6. Who will be required or asked to report: 10 CFR part 40: Applicants for and holders of NRC licenses authorizing the receipt, possession, use, or transfer of radioactive source and byproduct material.

7. An estimate of the number of annual responses: 589 [220 (168.6 NRC responses + 51 recordkeepers)] + 369 (220 Agreement States responses + 149 recordkeepers).

8. The estimated number of annual respondents: 99 (33 NRC Licensees + 66 Agreement State Licensees).

9. An estimate of the total number of hours needed annually to complete the requirement or request: 11,106 hours (4,815 NRC Licensees hours [2,743 reporting + 2,072 recordkeeping] + 6,291 Agreement States Licensees hours [2,500 reporting + 3,791 recordkeeping]).

10. Abstract: 10 CFR part 40 establishes requirements for licenses for the receipt, possession, use and transfer of radioactive source and byproduct material. The application, reporting and recordkeeping requirements are necessary to permit the NRC to make a determination on whether the possession, use, and transfer of source and byproduct material is in conformance with the Commission's regulations for protection of public health and safety.

The public may examine and have copied for a fee, publicly available documents, including the final supporting statement, at the NRC's Public Document Room, Room O-1F21, One White Flint North, 11555 Rockville Pike, Rockville, Maryland 20874. The OMB clearance requests are available at the NRC's Web site: http://www.nrc.gov/public-involve/doc-comment/omb/. The document will be available on the NRC's home page site for 60 days after the signature date of this notice.

Comments and questions should be directed to the OMB reviewer listed below by January 22, 2013. Comments received after this date will be considered if it is practical to do so, but assurance of consideration cannot be given to comments received after this date.

Chad Whiteman, Desk Officer, Office of Information and Regulatory Affairs (3150-0020), NEOB-10202, Office of Management and Budget, Washington, DC 20503.

Comments can also be emailed to Chad_S_Whiteman@omb.eop.gov, or submitted by telephone at 202-395-4718.

The NRC Clearance Officer is Tremaine Donnell, 301-415-6258.

Dated at Rockville, Maryland, this 18th day of December 2012.
For the Nuclear Regulatory Commission.
Tremaine Donnell,
NRC Clearance Officer, Office of Information Services.

[FR Doc. 2012-30808 Filed 12-20-12; 8:45 am]

BILLING CODE 7590-01-P